ENVIRONMENTAL PROTECTION AGENCY

[FRL-7494-8]

Proposed CERCLA Administrative Cost Recovery Settlement; Franklin Street Superfund Site

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Franklin Street Superfund site in Malden, Massachusetts with the following settling parties: Robert M. Trager, Steven J. Trager, Ada Trager, Carol Shaloo Trager, and Ada Trager as Trustee of the Twenty Two Realty Trust. The settlement requires the settling parties to pay $125,000 to the Hazardous Substance Superfund. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Superfund Reading Room, U.S. Environmental Protection Agency Regional Office, located at One Congress Street, Suite 1100, Boston, Massachusetts 02114.

DATES: Comments must be submitted on or before June 6, 2003.

ADDRESSES: The proposed settlement is available for public inspection at the Superfund Reading Room, U.S. Environmental Protection Agency Regional Office, located at One Congress Street, Suite 1100, Boston, Massachusetts 02114.

FOR FURTHER INFORMATION CONTACT: A copy of the proposed Agreement and Covenant Not to Sue can be obtained from Rona H. Gregory, Senior Assistant Regional Counsel, U.S. Environmental Protection Agency, Region I, One Congress Street, Suite 1100, Mailcode RAA, Boston, Massachusetts 02214, (617) 918-1096. Comments should reference the Franklin Street Superfund Site in Malden, Massachusetts, and EPA Docket No. 01-2003-0027 and should be addressed to Regional Hearing Clerk, U.S. Environmental Protection Agency, One Congress Street, Suite 1100, Boston, MA 02114.

Dated: April 28, 2003.
Susan Studlien,
Acting Director, Office of Site Remediation and Restoration.

[FR Doc. 03-11330 Filed 5-6-03; 8:45 am]

BILLING CODE 6560-50-P